DEPARTMENT OF THE TREASURY

Internal Revenue Service

26 CFR Part 1

[REG-136890-02]

RIN 1545-BA90

Transfers To Provide for Satisfaction of Contested Liabilities; Correction

AGENCY: Internal Revenue Service (IRS), Treasury.

ACTION: Correction to notice of proposed rulemaking by cross-reference to temporary regulations.

SUMMARY: This document contains a correction to a notice of proposed rulemaking by cross-reference to temporary regulations relating to the transfer of indebtedness or stock of a taxpayer or related persons or of a promise to provide services or property in the future to provide for the satisfaction of an asserted liability that the taxpayer is contesting.

FOR FURTHER INFORMATION CONTACT: Norma Rotunno (202) 622-7900 (not a toll-free number).

SUPPLEMENTARY INFORMATION:

Background

The proposed rulemaking by cross-reference to temporary regulations that are the subject of this correction are under section 461(f) of the Internal Revenue Code.

Need for Correction

As published, the proposed rulemaking by cross-reference to temporary regulations (REG-136890-02), contains an error that may prove to be misleading and is in need of clarification.

Correction of Publication

Accordingly, the publication of the proposed rulemaking by cross-reference to temporary regulations (REG-136890-02), which is the subject of FR. Doc. 03-29043, is corrected as follows:

1. On page 65646, column 1, in the preamble, under the subject heading “Comments and Public Hearing”, paragraph 3, line 8, the language “March 2, 2003. A period of 10 minutes” is corrected to read “March 2, 2004. A period of 10 minutes”.

Cynthia E. Grigsby,
Acting Chief, Publications and Regulations Branch, Legal Processing Division, Associate Chief Counsel (Procedures and Administration).

[FR Doc. 03-31163 Filed 12-17-03; 8:45 am]

BILLING CODE 4830-01-U